SECURITIES AND EXCHANGE COMMISSION

[File No. 500-1]

In the Matter of Advanced Life Sciences Holdings, Inc., Anoteros, Inc., Emperial Americas, Inc., Nord Resources Corporation, and UNR Holdings, Inc.; Order of Suspension of Trading

June 15, 2016.

It appears to the Securities and Exchange Commission (“Commission”) that there is a lack of current and accurate information concerning the securities of Advanced Life Sciences Holdings, Inc. (“ADLS ¹”) (CIK No. 1322734), a void Delaware corporation located in Woodridge, Illinois with a class of securities registered with the Commission pursuant to Securities Exchange Act of 1934 (“Exchange Act”) Section 12(g) because it is delinquent in its periodic filings with the Commission, having not filed any periodic reports since it filed a Form 10-K for the period ended December 31, 2010. On March 3, 2014, the Commission's Division of Corporation Finance (“Corporation Finance”) sent a delinquency letter to ADLS requesting compliance with its periodic filing requirements but ADLS did not receive the delinquency letter due to its failure to maintain a valid address on file with the Commission as required by Commission rules (Rule 301 of Regulation S-T, 17 CFR 232.301 and Section 5.4 of EDGAR Filer Manual) (“Commission Issuer Address Rules”). As of June 8, 2016, the common stock of ADLS was quoted on OTC Link operated by OTC Markets Group Inc. (formerly “Pink Sheets”) (“OTC Link”), had six market makers, and was eligible for the “piggyback” exception of Exchange Act Rule 15c2-11(f)(3).

¹ The short form of each issuer's name is also its stock symbol.

It appears to the Commission that there is a lack of current and accurate information concerning the securities of Anoteros, Inc. (“ANOS”) (CIK No. 1390292), a revoked Nevada corporation located in Rolling Hills, California with a class of securities registered with the Commission pursuant to Exchange Act Section 12(g) because it is delinquent in its periodic filings with the Commission, having not filed any periodic reports since it filed a Form 10-Q for the period ended September 30, 2014. On December 2, 2015, Corporation Finance sent a delinquency letter to ANOS requesting compliance with its periodic filing requirements but ANOS did not receive the delinquency letter due to its failure to maintain a valid address on file with the Commission as required by Commission Issuer Address Rules. As of June 8, 2016, the common stock of ANOS was quoted on OTC Link, had five market makers, and was eligible for the “piggyback” exception of Exchange Act Rule 15c2-11(f)(3).

It appears to the Commission that there is a lack of current and accurate information concerning the securities of Emperial Americas, Inc. (“TEXX”) (CIK No. 1424718), a dissolved Florida corporation located in Sarasota, Florida with a class of securities registered with the Commission pursuant to Exchange Act Section 12(g) because it is delinquent in its periodic filings with the Commission, having not filed any periodic reports since it filed a Form 10-Q for the period ended June 30, 2012. On January 28, 2016, Corporation Finance sent a delinquency letter to TEXX requesting compliance with its periodic filing requirements but TEXX did not receive the delinquency letter due to its failure to maintain a valid address on file with the Commission as required by Commission Issuer Address Rules. As of June 8, 2016, the common stock of TEXX was quoted on OTC Link, had six market makers, and was eligible for the “piggyback” exception of Exchange Act Rule 15c2-11(f)(3).

It appears to the Commission that there is a lack of current and accurate information concerning the securities of Nord Resources Corporation (“NRDSQ”) (CIK No. 72316), a void Delaware corporation located in Tucson, Arizona with a class of securities registered with the Commission pursuant to Exchange Act Section 12(g) because it is delinquent in its periodic filings with the Commission, having not filed any periodic reports since it filed a Form 10-Q for the period ended September 30, 2013. On September 30, 2015, Corporation Finance sent a delinquency letter to NRDSQ requesting compliance with its periodic filing requirements which was delivered. As of June 8, 2016, the common stock of NRDSQ was quoted on OTC Link, had six market makers, and was eligible for the “piggyback” exception of Exchange Act Rule 15c2-11(f)(3).

It appears to the Commission that there is a lack of current and accurate information concerning the securities of UNR Holdings, Inc. (“UNRH”) (CIK No. 1093800), a delinquent Colorado corporation located in New York, New York with a class of securities registered with the Commission pursuant to Exchange Act Section 12(g) because it is delinquent in its periodic filings with the Commission, having not filed any periodic reports since it filed a Form 10-Q for the period ended September 30, 2012. On March 25, 2015, Corporation Finance sent a delinquency letter to UNRH requesting compliance with its periodic filing requirements which was delivered. As of June 8, 2016, the common stock of UNRH was quoted on OTC Link, had four market makers, and was eligible for the “piggyback” exception of Exchange Act Rule 15c2-11(f)(3).

The Commission is of the opinion that the public interest and the protection of investors require a suspension of trading in the securities of the above-listed companies. Therefore, it is ordered, pursuant to Section 12(k) of the Securities Exchange Act of 1934, that trading in the securities of the above-listed companies is suspended for the period from 9:30 a.m. EDT on June 15, 2016, through 11:59 p.m. EDT on June 28, 2016.

By the Commission.
Jill M. Peterson,
Secretary.

[FR Doc. 2016-14475 Filed 6-15-16; 4:15 pm]

BILLING CODE 8011-01-P